DEPARTMENT OF HOUSING AND URBAN DEVELOPMENT

[Docket No. FR-5544-D-09]

Redelegation of Authority Under Section 3 of the Housing and Urban Development Act of 1968

AGENCY: Office of the Assistant Secretary for Fair Housing and Equal Opportunity, HUD.

ACTION: Notice of redelegation of authority.

SUMMARY: Pursuant to 24 CFR 135.7, the Assistant Secretary for Fair Housing and Equal Opportunity (FHEO) has been delegated authority under Section 3 of the Housing and Urban Development Act of 1968 and HUD's implementing regulations at 24 CFR part 135. In this notice, the Assistant Secretary for FHEO retains those authorities and, with noted exceptions, redelegates this authority to the General Deputy Assistant Secretary for FHEO, who further redelegates certain authority to the Deputy Assistant Secretary for Enforcement and Programs and to each of the FHEO Regional Directors. This notice also supersedes all prior redelegations of authority by the office of the Assistant Secretary for FHEO under section 3 of the Housing and Urban Development Act of 1968 and HUD's implementing regulations at 24 CFR 135.

DATES: Effective Date: November 16, 2011.

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Relay Service at (800) 877-8339.

SUPPLEMENTARY INFORMATION: By regulation, the Secretary delegated certain authority under section 3 of the Housing and Urban Development Act of 1968 (12 U.S.C. 1701u), and its implementing regulations, 24 CFR 135, to the Assistant Secretary for Fair Housing and Equal Opportunity. On December 17, 2007 (72 FR 71429), the Assistant Secretary for Fair Housing and Equal Opportunity (FHEO) redelegated that authority, with certain exceptions, under section 3 of the Housing and Urban Development Act of 1968 to the General Deputy Assistant Secretary for FHEO who retained and further redelegated certain authorities to the Deputy Assistant Secretary for Enforcement and Programs. In addition, the Deputy Assistant Secretary for Enforcement and Programs retained these authorities and further redelegated limited authorities to each of the FHEO Region Directors. In this redelegation, the Assistant Secretary for FHEO supersedes all prior redelegations and redelegates the authority under section 3 as follows:

Section A. Authority Redelegated

The Assistant Secretary for FHEO retains and, with certain exceptions noted in Section B herein, redelegates to the General Deputy Assistant Secretary for FHEO all authority under section 3 of the Housing and Urban Development Act of 1968 and its implementing regulations. This redelegation includes the authority to further redelegate authority. The General Deputy Assistant Secretary in turn retains and redelegates this authority including the authority for Section 3 complaint processing, to the Deputy Assistant Secretary for Enforcement and Programs and the FHEO Regional Directors, with the exception that the authority delegated to the FHEO Regional Directors may not be further delegated.

Section B. Exception to Redelegation

The authority redelegated from the Assistant Secretary does not include the authority to issue or to waive regulations or to impose resolutions or sanctions in Section 3 complaint investigations pursuant to 24 CFR 135.76(f)(2)

Section C. Prior Redelegated Authority Superseded

All previous redelegations of authority made within the Office of the Assistant Secretary for FHEO under section 3 of the Housing and Community Development Act of 1968 are superseded.

Authority: Section 7(d) of the Department of Housing and Urban Development Act, 42 U.S.C. 3535(d).

Dated: November 16, 2011.
John Trasviña,
Assistant Secretary for Fair Housing and Equal Opportunity.
Bryan Greene,
General Deputy Assistant Secretary for Fair Housing and Equal Opportunity.

[FR Doc. 2011-30766 Filed 11-28-11; 8:45 am]

BILLING CODE 4210-67-P